THE NATIONAL FOUNDATION FOR THE ARTS AND THE HUMANITIES

Proposed Collection, Laura Bush 21st Century Librarian Grant Program Evaluation

AGENCY: Institute of Museum and Library Services, National Foundation for the Arts and the Humanities.

ACTION: Notice, request for comments, collection of information.

SUMMARY: The Institute of Museum and Library Services as part of its continuing effort to reduce paperwork and respondent burden, conducts a preclearance consultation program to provide the general public and federal agencies with an opportunity to comment on proposed and/or continuing collections of information in accordance with the Paperwork Reduction Act of 1995 (PRA95) [44 U.S.C. 3508(2)(A)]. This program helps to ensure that requested data can be provided in the desired format, reporting burden (time and financial resources) is minimized, collection instruments are clearly understood, and the impact of collection requirements on respondents can be properly assessed. Currently the Institute of Museum and Library Services is soliciting comments concerning the proposed study of the impacts of the Laura Bush 21st Century Librarian Grant Program.

A copy of the proposed information collection request can be obtained by contacting the individual listed below in the addressee section of this notice.

DATES: Written comments must be submitted to the office listed in the addressee section below on or before January 15, 2012. IMLS is particularly interested in comments that help the agency to:

• Evaluate the accuracy of the agency's estimate of the burden of the proposed collection of information including the validity of the methodology and assumptions used;

• Enhance the quality, utility, and clarity of the information to be collected; and

• Minimize the burden of the collection of information on those who are to respond, including through the use of appropriate automated electronic, mechanical, or other technological collection techniques, or other forms of information technology, e.g., permitting electronic submissions of responses.

ADDRESSES: Send comments to: Matthew Birnbaum, Ph.D., Evaluation and Research Officer, Institute of Museum and Library Services, 1800 M St., NW., Washington, DC 20036. Telephone: (202) 653-4647, Fax: (202) 653-4611 or by email at mbirnbaum@imls.gov or by or by teletype (TTY/TDD) for persons with hearing difficulty at 202/653-4614.

SUPPLEMENTARY INFORMATION:

I. Background

The Institute of Museum and Library Services is an independent Federal grant-making agency authorized by the Museum and Library Services Act, Public Law 104-208 and is the primary source of federal support for the nation's 123,000 libraries and 17,500 museums. The IMLS provides a variety of grant programs to assist the nation's museums and libraries in improving their operations and enhancing their services to the public. Museums and libraries of all sizes and types may receive support from IMLS programs. In the Museum and Library Services Act of 2010, IMLS is charged with the responsibility of identifying national needs for, and trends of, museum and library services; reporting on the impact and effectiveness of programs conducted with funds made available by the Institute in addressing such needs; and identifying, and disseminating information on, the best practices of such programs. This solicitation is to develop plans to conduct a program evaluation of the Laura Bush 21st Century Librarian Grant Program which began in 2003.

II. Current Actions

The Institute of Museum and Library Services, in accordance with the Museum and Library Services Act of 2010, is authorized to identify needs and trends of museum and library services, report on the impact and effectiveness, and identify best practices of programs conducted with funds made available by the Institute. Current research initiatives include analysis of grants made to educational and training programs by the Laura Bush 21st Century Librarian Grant Program between 2003 and 2007 to assess the outcomes and impact of such grants on the Nation's librarian workforce, institutions, and their communities. IMLS proposes to collect qualitative and quantitative information from grant recipients and program participants via interviews and a web-based survey. Relevant information includes but is not limited to: The planning process of the grant program; recruiting methods; challenges and lessons learned; programmatic outcomes; and placements of program participants. The information IMLS collects will build on, but not duplicate existing or ongoing collections.

Agency: Institute of Museum and Library Services.

Title: Laura Bush 21st Century Librarian Grant Program Evaluation.

OMB Number: To be determined.

Agency Number: 3137.

Frequency: One time.

Affected Public: Libraries, Educational Institutions, Grant Recipients, and Program Participants.

Number of Respondents: To be determined.

Estimated Time per Respondent: To be determined.

Total Burden Hours: To be determined.

Total Annualized capital/startup costs: To be determined.

Total Annual costs: To be determined.

FOR FURTHER INFORMATION CONTACT: Matthew Birnbaum, Evaluation and Research Officer, Office of Planning, Research and Evaluation, Institute of Museum and Library Services, 1800 M St., NW., Washington, DC 20036, email: mbirnbaum@imls.gov, telephone (202) 653-4760.

Dated: November 15, 2011.
Kim Miller,
Management Analyst, Office of Policy, Research and Evaluation.

[FR Doc. 2011-29942 Filed 11-18-11; 8:45 am]

BILLING CODE 7036-01-P